ENVIRONMENTAL PROTECTION AGENCY

[OAR-2003-0081; FRL-7574-7]

Agency Information Collection Activities; Submission to OMB for Review and Approval; Comment Request; Emission Reporting Requirements for Ozone SIP Revision Relating to Statewide Budgets for NOX Emissions To Reduce the Regional Transport of Ozone, EPA ICR Number 1857.03, OMB Control Number 2060-0445

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2003. Under OMB regulations, the Agency may continue to conduct or sponsor the collection of information while this submission is pending at OMB. This ICR describes the nature of the information collection and its estimated burden and cost.

DATES: Additional comments may be submitted on or before November 14, 2003.

ADDRESSES: Submit your comments, referencing docket ID number OAR-2003-0081, to (1) EPA online using EDOCKET (our preferred method), by e-mail to a-and-r-Docket@epa.gov, or by mail to: EPA Docket Center, Environmental Protection Agency, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: William L. Johnson, Air Quality Strategies and Standards Division, Ozone Policy Strategies Group, Mail Code C539-02, Environmental Protection Agency, Research Triangle Park, North Carolina 27711; telephone number: (919) 541-5245; fax number: (919) 541-0824; e-mail address: Johnson.WilliamL@epa.gov.

SUPPLEMENTARY INFORMATION: EPA has submitted the following ICR to OMB for review and approval according to the procedures prescribed in 5 CFR 1320.12. On July 11, 2003 (68 FR 41335), EPA sought comments on this ICR pursuant to 5 CFR 1320.8(d). EPA has received one comment and has addressed the comment received.

EPA has established a public docket for this ICR under Docket ID No. OAR-2003-0081, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Emission Reporting Requirements for Ozone SIP Revisions Relating to Statewide Budgets for NOX Emissions to Reduce the Regional Transport of Ozone.

Abstract: States which are subject to the NOX SIP call are required to collect data on NOX emissions and submit this data to EPA. Data from large NOX sources which States are requiring to be controlled to meet the State NOX budget must be reported annually for the ozone season. States must report NOX emissions from all sources triennially. In order to report this data, States must require large sources of NOX emissions to monitor emissions and report emissions to the State or to EPA. Resources must be expended by sources to install and calibrate emission monitors and to collect and report emissions data. This data is necessary to allow EPA to assess the ability of States to meet their NOX budgets allocated under the NOX SIP call. The data submission is not voluntary. It is required under 40 CFR 51.122. All emissions data received by EPA will be treated as public information.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 142 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 21 States plus the District of Columbia, industries with large boilers, electrical generating units or power plants, cement kilns.

Estimated Number of Respondents: 2,467.

Frequency of Response: quarterly, annually, triennially.

Estimated Total Annual Hour Burden: 492,192.

Estimated Total Annual Cost: $53,856,580 which includes $16,136,170 annualized capital, $12,606,505 O&M costs and $25,113,907 labor costs.

Changes in the Estimates: There is a increase of 207,446 hours in the total estimated burden currently identified in the OMB Inventory of Approved ICR Burdens. This increase is a result of the fact that during the first three years of the information collection (i.e., 2000 through 2002,) only a part of the sources covered by the NOX SIP call were required or expected to install controls and begin collecting and reporting emissions data. During the period 2003 through 2005 most sources covered by the NOX SIP call are expected to be in compliance with the regulations and thus subject to monitoring emissions and reporting. This change is due to the phasing in of program requirements over a period of time.

Dated: September 30, 2003.
Doreen Sterling,
Acting Director, Collection Strategies Division.

[FR Doc. 03-26051 Filed 10-14-03; 8:45 am]

BILLING CODE 6560-50-P